DEPARTMENT OF AGRICULTURE

Forest Service

Deep Lake Allotment, Coconino National Forest; Coconino County, AZ

AGENCY: Forest Services, USDA.

ACTION: Notice of intent to prepare an environmental impact statement.

SUMMARY: The USDA Forest Service will prepare an environmental impact statement (EIS) to disclose the environmental effects of reauthorizing cattle grazing on the Deep Lake Allotment.

DATES: Comments concerning the scope of the analysis should be received within 30 days of the date of publication of this Notice of Intent in the Federal Register. The draft EIS is expected in May 2005 and the final EIS is expected September 2005.

ADDRESSES: Send written comments to Terri Marceron, Mormon Lake District Ranger, 4373 South Lake Mary Road, Flagstaff, Arizona 86001, Fax: (928) 214-2460, E-mail: comments-southwestern-coconino-mormon-lake@fs.fed.us.

FOR FURTHER INFORMATION CONTACT: Katherine Sánchez Meador, Range Specialist, Peaks Ranger District, 5075 N Highway 89, Flagstaff, Arizona 86004, (928) 526-0866.

SUPPLEMENTARY INFORMATION: The Deep Lake Allotment is a small grazing allotment located approximately nine miles southeast of Flagstaff, Arizona and along the northeastern edge of Anderson Mesa. The allotment consists of approximately 11,010 acres, most of which are in one main pasture. The current allotment permit is for 105 cattle from May 1 to October 31.

Primary vegetation on the Deep Lake Allotment consists of pinyon-juniper woodland that extends above and below the Anderson Mesa Rim. Deep Lake is the only semi-permanent wetland within the allotment. A band of ponderosa pine is found along the Anderson Mesa Rim and Mormon Canyon. Pronghorn habitat is limited and of poor quality because it consists of only small, isolated meadows within the northern portion of the allotment.

The Deep Lake Allotment is scheduled for environmental analysis of grazing use on the Coconino National Forest, as required by the Burns Amendment (1995). This project is being completed in order to ensure cattle grazing on the Deep Lake Allotment is consistent with goals, objectives, and the standards and guidelines of the Coconino National Forest Plan (1987, as amended).

Purpose and Need for Action

The purpose of this project is to analyze the effects of reauthorizing cattle grazing on the Deep Lake Allotment and to ensure the allotment is managed in a manner that moves the area toward Forest Plan objectives and desired conditions. The analysis will help determine whether or not to reauthorize cattle grazing and set grazing levels within the carrying capacity for the allotment. (Carrying capacity refers to the average number of cattle and/or wildlife that may be sustained on a management unit, i.e. an allotment, compatible with management objectives for the unit.)

There is a need to continue maintaining and improving rangeland conditions on the Deep Lake Allotment. Recent monitoring indicates current cattle grazing management is maintaining or improving rangeland conditions where cattle grazing occurs. New fencing is also needed around stock tanks for better distribution of cattle.

Proposed Action

The Mormon Lake Ranger District of the Coconino National Forest proposes to reauthorize cattle grazing for up to 105 cattle on the Deep Lake Allotment from May 1 through October 31. The authorization would be through a term grazing permit.

Five waterlots would be built around five stock tanks. These waterlots would be designed so water is accessible to wildlife, which would include a smooth bottom wire, 18 inches high, as well as wildlife jumps on all side. The waterlots would allow the permittee to control access to water for cattle at these stock tanks. By closing or opening up these stock tanks for cattle, the permittee can improve management of when and where cattle graze in the main pasture. The waterlots would allow the permittee the ability to control access to water for cattle and improve management of when and where cattle graze. Rangeland conditions on the allotment would improve with better cattle distribution.

The emergent vegetation and the surrounding upland buffer at Deep Lake will be excluded from cattle grazing by fencing approximately 29 acres of emergent vegetation and 54 acres of upland buffer. There will be a lane for cattle to access the stock tank water at Deep Lake which will have approximately two acres of emergent vegetation and six acres of upland buffer. The lane would maintain the permittee's current (livestock) water claim at Deep Lake. The bulrush plant community in Deep Lake should improve when cattle are excluded.

Utilization standards would be set for up to 35% by cattle and/or elk during the cattle grazing season. When allotment use approaches 35% by cattle and/or elk, cattle would be moved to another portion of the allotment. Once this use standard is met across the allotment, by cattle and/or elk, cattle would be moved off the allotment.

The Proposed Action includes adaptive management, which provides more flexibility for managing cattle. This would be accomplished through changes in timing and duration of grazing, movement of cattle within the allotment, and cattle numbers. If adjustments are needed, they are implemented through the Annual Operating Instructions which would adjust numbers so cattle use is consistent with current productivity. This allows plant, soil, and watershed conditions to be maintained or improved while range improvements are implemented over time. An example of a situation that could call for adaptive management adjustments is continued drought conditions.

Future monitoring will evaluate rangeland condition. Monitoring and the timing for this monitoring over the next ten years would include: Permittee compliance, allotment inspections, range readiness, forage production, and rangeland utilization (annually); condition and trend (every five to ten years); soil and riparian condition including wetlands, threatened, endangered, and sensitive species habitat (annually); archeological site condition (as needed); frequency and canopy cover plots and a soil condition rating would be continued or established at long-term monitoring sites, in areas of concern or in areas where changes in trend are expected or needed throughout the allotment.

Possible Alternatives

In addition to the Proposed Action, two other alternatives will initially be analyzed. One alternative (Current Management) will consider the effects of continuing the current cattle grazing management system on the allotment. Another alternative (No Action/No Grazing) will consider the effects of temporarily closing the Deep Lake Allotment to cattle grazing for a ten-year period. The development of any other alternatives will be completed following public response to scoping and published in the draft EIS.

Responsible Official

The responsible official for this project is the Mormon Lake District Ranger.

Nature of Decision To Be Made

The Mormon Lake District Ranger will decide whether or not to reauthorize cattle grazing and in what manner as described in the proposed action, alternatives to the proposed action, or current cattle management. The reauthorization of cattle grazing would be for a minimum of ten years. However, future NEPA for additional projects within the Deep Lake Allotment area, changing rangeland condition, or violations of the term grazing permit could change the length of this decision.

Scoping Process

Public questions and comments regarding this proposal are an integral part of this environmental analysis process. Comments will be used to identify issues and develop alternatives to the proposed action. To assist the Forest Service in identifying and considering issues and concerns on the proposed action, comments should be as specific as possible. A copy of this Notice of Intent will be mailed to landowners within and immediately adjacent to the allotment area, as well as those people and organizations on the Coconino National Forest's mailing list that have indicated a specific interest in the Deep Lake Allotment area or grazing management in general. The public will be notified of any meetings regarding this proposal by mailings and press releases sent to the local newspaper and media. There are no meetings planned at this time.

Comments Requested

This Notice of Intent initiates the scoping process under NEPA, which will guide development of the EIS. Comments concerning the scope of this project should be received within 30 days of the date of publication of this Notice of Intent. Our desire is to receive substantive comments on the merits of the Proposed Action, as well as comments that address errors, misinformation, or information that has been omitted. Substantive comments are defined as comments within the scope of the proposal have a direct relationship to the proposal, and that include supporting reasons for the Responsible Official's consideration.

Early Notice of Importance of Public Participation in Subsequent Environmental Review

A draft EIS will be prepared for comment. The comment period on the draft EIS will be 45 days from the date the Environmental Protection Agency publishes the Notice of Availability in the Federal Register.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality.

Persons requesting such confidentiality should be aware that, under the FOIA, confidentiality may be granted in only very limited circumstances, such as to protect trade secrets. The Forest Service will inform the requester of the agency's decision regarding the request for confidentiality, and if the request is denied, the agency will return the submission and notify the requester that the comments may be resubmitted with or without name and address within a specified number of days.

(Authority: 40 CFR 1501.7 and 1508.22; Forest Service Handbook 1909.15, Section 21.)

Dated: December 14, 2004.
Nora B. Rasure,
Forest Supervisor, Coconino National Forest.

[FR Doc. 04-28344 Filed 12-27-04; 8:45 am]

BILLING CODE 3410-11-M